DEPARTMENT OF AGRICULTURE

Animal and Plant Health Inspection Service

[Docket No. APHIS-2010-0073]

Fiscal Year 2011 Veterinary Import/Export Services, Veterinary Diagnostic Services, and Export Certification for Plants and Plant Products User Fees

AGENCY: Animal and Plant Health Inspection Service, USDA.

ACTION: Notice.

SUMMARY: This notice pertains to user fees charged for import- and export-related services that we provide for animals, animal products, birds, germ plasm, organisms, and vectors; for certain veterinary diagnostic services; and for export certification of plants and plant products. The purpose of this notice is to remind the public of the user fees for fiscal year 2011 (October 1, 2010, through September 30, 2011).

FOR FURTHER INFORMATION CONTACT: For information on Veterinary Diagnostic program operations, contact Dr. Elizabeth Lautner, Director, National Veterinary Services Laboratories, VS, APHIS, 1800 Dayton Avenue, Ames, IA 50010; (515) 663-7301.

For information on Veterinary Services import and export program operations, contact Ms. Carol A. Tuszynski, Director, Planning, Finance & Strategy, VS, APHIS, 4700 River Road Unit 39, Riverdale, MD 20737-1231; (301) 734-0832.

For information on plant and plant product export certification program operations, contact Mr. William E. Thomas, Director, Quarantine Policy, Analysis & Support, PPQ, APHIS, 4700 River Road Unit 39, Riverdale, MD 20737-1231; (301) 734-5214.

For information concerning user fee rate development, contact Mrs. Kris Caraher, Section Head, User Fees Section, Financial Services Branch, FMD, MRPBS, APHIS, 4700 River Road Unit 54, Riverdale, MD 20737; (301) 734-0882.

SUPPLEMENTARY INFORMATION:

Background

Veterinary Import/Export User Fees

The regulations in 9 CFR part 130 (referred to below as the regulations) list user fees for import- and export-related services provided by the Animal and Plant Health Inspection Service (APHIS) for animals, animal products, birds, germ plasm, organisms, and vectors.

These user fees are authorized by section 2509(c)(1) of the Food, Agriculture, Conservation, and Trade Act of 1990, as amended (21 U.S.C. 136a), which provides that the Secretary of Agriculture may establish and collect fees that will cover the cost of providing import- and export-related services for animals, animal products, birds, germ plasm, organisms, and vectors.

The veterinary import/export user fees are found in §§ 130.2 through 130.11 and §§ 130.20 through 130.30 of the regulations and cover the following:

• Any service rendered by an APHIS representative for each animal or bird receiving standard housing, care, feed, and handling while quarantined in an APHIS-owned or -operated animal import center or quarantine facility;

• Birds or poultry, including zoo birds or poultry, receiving nonstandard housing, care, or handling to meet special requirements while quarantined in an APHIS-owned or -operated animal import center or quarantine facility;

• Exclusive use of space at APHIS Animal Import Centers;

• Processing import permit applications;

• Any service rendered by an APHIS representative for live animals presented for importation or entry into the United States through a land border port along the United States-Mexico border;

• Any service rendered for live animals at land border ports along the United States-Canada border;

• Miscellaneous services;

• Pet birds quarantined in an animal import center or other APHIS-owned or supervised quarantine facility;

• The inspection of various import and export facilities and establishments;

• The endorsement of export health certificates that do not require the verification of tests or vaccinations;

• The endorsement of export health certificates that require the verification of tests and vaccinations; and

• Hourly rate and minimum user fees.

On October 1, 2010, the veterinary import/export user fees for fiscal year 2011 will take effect. You may view the regulations in 9 CFR part 130, which includes charts showing all of the fiscal year 2011 veterinary import/export user fees, on the Internet at Regulation.gov, at (http://www.regulations.gov/fdmspublic/component/main?main=DocketDetail&d=APHIS-2010-0073).

Veterinary Diagnostic Services User Fees

User fees to reimburse APHIS for the costs of providing veterinary diagnostic services are also contained in 9 CFR part 130. These user fees are authorized by section 2509(c) of the Food, Agriculture, Conservation, and Trade Act of 1990, as amended (21 U.S.C. 136a), which provides that the Secretary of Agriculture may, among other things, prescribe regulations and collect fees to recover the costs of veterinary diagnostics relating to the control and eradication of communicable diseases of livestock and poultry within the United States.

Veterinary diagnostics is the work performed in a laboratory to determine whether a disease-causing organism or chemical agent is present in body tissues or cells and, if so, to identify those organisms or agents. Services in this category include: (1) Performing identification, serology, and pathobiology tests and providing diagnostic reagents and other veterinary diagnostic materials and services for the National Veterinary Services Laboratories (NVSL) in Ames, IA; and (2) performing laboratory tests and providing reagents and other veterinary diagnostic materials and services at the NVSL Foreign Animal Disease Diagnostic Laboratory (NVSL FADDL) in Greenport, NY.

The veterinary diagnostic services user fees are found in §§ 130.12 through 130.19 and cover the following:

• Virology identification tests performed at NVSL (excluding FADDL) or other authorized sites;

• Bacteriology serology tests performed at NVSL (excluding FADDL) or other authorized sites;

• Virology serology tests performed at NVSL (excluding FADDL) or other authorized sites;

• Veterinary diagnostic tests performed at the Pathobiology Laboratory at NVSL (excluding FADDL) or other authorized sites;

• Bacteriology reagents produced by the Diagnostic Bacteriology Laboratory at NVSL (excluding FADDL) or other authorized sites;

• Virology reagents produced by the Diagnostic Virology Laboratory at NVSL (excluding FADDL) or other authorized sites; and

• Other veterinary diagnostic services or materials available from NVSL (excluding FADDL).

On October 1, 2010, the veterinary diagnostic services user fees for fiscal year 2011 will take effect. You may view the regulations in 9 CFR part 130, which includes charts showing all of the fiscal year 2011 veterinary import/export user fees, on the Internet at Regulation.gov, at (http://www.regulations.gov/fdmspublic/component/main?main=DocketDetail&d=APHIS-2010-0073).

User Fees for Export Certificates for Plants and Plant Products

User fees for the issuance of export certificates for plants and plant products are contained in 7 CFR part 354. Export certificates issued in accordance with the regulations certify agricultural products as being considered free from plant pests, according to the phytosanitary requirements of the foreign countries to which the plants and plant products may be exported. Export certificates are also issued to certify that reexported plants or plant products conform to the most current phytosanitary requirements of the importing country and that, during storage in the United States, the consignment has not been subjected to risk of infestation or infection. These export certificates must be issued in accordance with 7 CFR part 353 to be accepted in international commerce.

In a final rule published in the Federal Register on July 8, 2009 (74 FR 32391-32400, Docket No. APHIS-2006-0137), and effective October 1, 2009, we established, for fiscal years 2007 through 2012 and beyond, user fees charged for export certification of plants and plant products. Services for this category include: (1) Certification for export or reexport of a commercial shipment; (2) certification for export or reexport of a low-value commercial or noncommercial shipment; and (3) replacement of any certificate for export or reexport.

The user fees charged for export certificates for plants and plant products are found in § 354.3 and cover the following:

• Administrative fee for exporters who receive a certificate issued on behalf of APHIS by a designated State or county inspector;

• Fee for export or reexport certificate for a commercial shipment;

• Fee for an export or reexport certification for a low-value commercial shipment;

• Fee for an export or reexport certification for a noncommercial shipment; and

• Fee for replacing any certificate.

On October 1, 2010, the user fees charged for export certificates for plants and plant products for fiscal year 2011 will take effect. You may view the regulations in 7 CFR part 354, which includes charts showing all of the fiscal year 2011 user fees charged for export certificates for plants and plant products, on the Internet at Regulation.gov, at (http://www.regulations.gov/fdmspublic/component/main?main=DocketDetail&d=APHIS-2010-0073).

Done in Washington, DC, this 20th day of August 2010.

Kevin Shea
Acting Administrator, Animal and Plant Health Inspection Service.

[FR Doc. 2010-21293 Filed 8-25-10; 8:45 am]

BILLING CODE 3410-34-S